DEPARTMENT OF AGRICULTURE

Forest Service

Ravalli County Resource Advisory Committee

AGENCY: Forest Service, USDA.

ACTION: Notice of meeting.

SUMMARY: The Ravalli County Resource Advisory Committee will be meeting to discuss project development for 2005 and project updates for 2004. Agenda topics will include public outreach methods, and a public forum (question and answer session). The meeting is being held pursuant to the authorities in the Federal Advisory Committee Act (Public Law 92-463) and under the Secure Rural Schools and Community Self-Determination Act of 2000 (Public Law 106-393). The meeting is open to the public.

DATES: The meeting will be held on February 22, 2005, 6:30 p.m.

ADDRESSES: The meeting will be held at the Ravalli County Administration Building, 215 S., 4th Street, Hamilton, Montana. Send written comments to Daniel G Ritter, Acting District Ranger, Stevensville Ranger District, 88 Main Street, Stevensville, MT 59870, by facsimile (406) 777-5461, or electronically to dritter@fs.fed.us.

FOR FURTHER INFORMATION CONTACT: Dan Ritter, Stevensville Acting District Ranger and Designated Federal Officer, Phone: (406) 777-5461.

Dated: February 9, 2005.
David T. Bull,
Forest Supervisor.

[FR Doc. 05-2962 Filed 2-15-05; 8:45 am]

BILLING CODE 3410-11-M